DEPARTMENT OF HEALTH AND HUMAN SERVICES

Administration for Children and Families

Submission for OMB Review; Comment Request

Title: ADP & Services Conditions for FFP for ACF.

OMB No.: 0970-0417.

Description: State child support agencies are required to establish and operate a federally approved statewide automated data processing and information retrieval system to assist in child support enforcement. States are required to submit an initial advance automated data processing planning document (APD) containing information to assist the Secretary of the Department of Health and Human Services in determining if the state computerized support enforcement system meets federal requirements and providing federal approval. States are also required to submit annually an updated APD for oversight purposes. Based on assessment of the information provided in the initial or updated APDs, states that do not meet federal requirement approval will need to complete an independent verification and validation.

Advance Planning Document (APD) process, established in the rules at 45 CFR Part 95, Subpart F, is the procedure by which States request and obtain approval for Federal financial The participation in their cost of acquiring Automatic Data Processing (ADP) equipment and services. State agencies that submit APD requests provide the Department of Health and Human Services (HHS) with the following information necessary to determine the States' needs to acquire the requested ADP equipment and/or services:

(1) A statement of need;

(2) A requirements analysis and feasibility study;

(3) A procurement plan;

(4) A proposed activity schedule; and,

(5) A proposed budget.

The proposed information collection, is authorized by (1) 42 U.S.C. 654A, which provides a state agency to have a single statewide automated data processing and information retrieval system and sets forth the requirements of that system; (2) 42 U.S.C. 654(16), which provides the state must submit an initial, and annually updated, advance automated data processing planning document for project approval; (3) 45 CFR 307.15, which provides the requirements for approval of advance planning documents; (4) 42 U.S.C 652(d), which provides the Secretary with the authority to approve an APD and to assess the computerized support enforcement system status; 45 CFR 95.626, which determines when an Independent Verification and Validation must be completed.

HHS' determination of a State Agency's need to acquire requested ADP equipment or services is authorized at sections 602(a(5)), 652(a)(1), 1396(a)(4) and 1302 of United States Code.

Respondents: States.

Annual Burden Estimates
Instrument | Number of respondents | Number of responses per respondent | Average burden hours per response | Total burden hours
RFP and Contract | 4 | 1.5 | 4 | 24
Emergency Funding Request | 5 | .1 | 2 | 1
Biennial Reports | 54 | 1 | 1.50 | 81
Advance Planning Document | 34 | 1.2 | 120 | 4,896
Operational Advance Planning Document | 20 | 1 | 30 | 600
Independent Verification and Validation (ongoing) | 3 | 4 | 10 | 120
Independent Verification and Validation (semiannually) | 1 | 2 | 16 | 32
Independent Verification and Validation (quarterly) | 1 | 4 | 30 | 120
System Certification | 1 | 1 | 240 | 240

Estimated Total Annual Burden Hours: 6,414.

Additional Information:

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV. Attn: Desk Officer for the Administration for Children and Families.

Robert Sargis,
Reports Clearance Officer.

[FR Doc. 2014-10986 Filed 5-13-14; 8:45 am]

BILLING CODE 4184-01-P